NUCLEAR REGULATORY COMMISSION

[Docket No. 70-3103; NRC-2010-0264]

Notice of Availability of Uranium Enrichment Fuel Cycle Facility Inspection Reports Regarding Louisiana Energy Services, National Enrichment Facility, Eunice, NM Prior to the Commencement of Operations

AGENCY: Nuclear Regulatory Commission.

ACTION: Notice of availability.

FOR FURTHER INFORMATION CONTACT: Ty Naquin, Project Manager, Uranium Enrichment Branch, Division of Fuel Cycle Safety and Safeguards, Office of Nuclear Material Safety and Safeguards, U.S. Nuclear Regulatory Commission, Rockville, MD 20852. Telephone: (301) 492-3187; Fax Number: (301) 492-3359; E-mail: Tyrone.Naquin@nrc.gov.

SUPPLEMENTARY INFORMATION:

I. Introduction

The Nuclear Regulatory Commission (NRC) staff has conducted inspections of the Louisiana Energy Services (LES), LLC, National Enrichment Facility in Eunice, New Mexico, and has verified that cascade number 1 of the facility has been constructed in accordance with the requirements of the approved license. The NRC staff has prepared inspection reports documenting its findings in accordance with the requirements of the NRC Inspection Manual. As a result of these inspections, on June 10, 2010, the Commission authorized the licensee to start operations of cascade number 1. The publication of this Notice satisfies the requirements of 10 CFR 70.32(k) and section 193(c) of the Atomic Energy Act of 1954, as amended.

The introduction of uranium hexafluoride into any module of the National Enrichment Facility is not permitted until the Commission completes an operational readiness and management measures verification review to verify that management measures that ensure compliance with the performance requirements of 10 CFR 70.61 have been implemented and confirms that the facility has been constructed in accordance with the license and will be operated safely. This notice addresses the licensee's readiness for its first phase of plant operation. Subsequent operational readiness and management measures verification reviews will continue throughout the various phases of plant construction and, upon completion of these subsequent phases, additional notices will be posted to verify that the phase in question has been constructed in accordance with the license and to acknowledge licensee readiness for operations. As additional cascades are made available for inspection, the Commission will determine whether they are authorized for use. Any cascade authorizations will be discussed in the additional notices.

II. Further Information

Documents related to this action are available electronically at the NRC's Electronic Reading Room at http://www.nrc.gov/reading-rm/adams.html. From this site, you can access the NRC's Agencywide Documents Access and Management System (ADAMS), which provides text and image files of NRC's public documents. The ADAMS accession numbers for the documents related to this Notice are:

Inspection report Nos. | Date | ADAMS accession No.
70-3103/2006-001 | 01-19-2007 | ML070190661
70-3103/2007-001 | 05-24-2007 | ML071440430
70-3103/2007-002 | 08-16-2007 | ML072280647
70-3103/2007-003 | 11-02-2007 | ML073060571
70-3103/2007-004 | 03-07-2008 | ML080670475
70-3103/2008-001 | 04-24-2008 | ML081160345
70-3103/2008-002 | 07-10-2008 | ML081930118
70-3103/2008-003 | 10-30-2008 | ML083040618
70-3103/2008-004 | 12-19-2008 | ML083540709
70-3103/2008-005 | 03-02-2009 | ML090610203
70-3103/2008-006 | 03-20-2009 | ML090790642
70-3103/2009-001 | 03-26-2009 | ML090850669
70-3103/2009-002 | 06-30-2009 | ML091770643
70-3103/2009-003 | 09-30-2009 | ML092730612
70-3103/2009-004 | 12-21-2009 | ML093511013
70-3103/2009-006 | 10-14-2009 | ML092820188
70-3103/2009-007 | 01-27-2010 | ML100271177
70-3103/2009-008 | 03-18-2010 | ML100770218
70-3103/2010-005 | 03-26-2010 | ML100850424
70-3103/2010-006 | 05-03-2010 | ML101230475
70-3103/2010-007 | 03-31-2010 | ML100900329
70-3103/2010-008 | 04-27-2010 | ML101170813
70-3103/2010-009 | 05-07-2010 | ML101300087
70-3103/2010-010 | 06-04-2010 | ML101480080
70-3103/2010-202 | 06-04-2010 | ML101480060

Several inspections of the Information Security Program were completed. These inspections included reviews of how classified matter is protected at the facility as well as reviews of classified computer networks. These inspection reports have not been listed in this Notice because they are not available publicly.

If you do not have access to ADAMS or if there are problems in accessing the documents located in ADAMS, contact the NRC Public Document Room Reference staff at 1-800-397-4209, 301-415-4737 or by email to pdr.resource@nrc.gov.

These documents may also be viewed electronically on the public computers located at the NRC's Public Document Room (PDR), O 1 F21, One White Flint North, 11555 Rockville Pike, Rockville, MD 20852. The PDR reproduction contractor will copy documents for a fee.

Dated at Rockville, MD, this 13th day of July 2010.
For the Nuclear Regulatory Commission.
Brian W. Smith,
Chief, Uranium Enrichment Branch, Division of Fuel Cycle Safety and Safeguards, Office of Nuclear Material Safety and Safeguards.

[FR Doc. 2010-18659 Filed 7-28-10; 8:45 am]

BILLING CODE 7590-01-P